DEPARTMENT OF THE TREASURY

Submission for OMB Review; Comment Request

December 5, 2014.

The Department of the Treasury will submit the following information collection request to the Office of Management and Budget (OMB) for review and clearance in accordance with the Paperwork Reduction Act of 1995, Public Law 104-13, on or after the date of publication of this notice.

DATES: Comments should be received on or before January 9, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Departmental Offices (DO)

OMB Number: 1505-0246.

Type of Review: Reinstatement.

Title: Small Business Lending Fund (SBLF) Survey.

Abstract: Established by the Small Business Jobs Act of 2010 (the Act) (Pub. L. 111-240), the Small Business Lending Fund (SBLF) is a dedicated fund designed to provide capital to qualified community banks and community development loan funds (CDLFs) in order to encourage small business lending. The purpose of the SBLF is to encourage Main Street banks and small businesses to work together, help create jobs, and promote economic growth in communities across the nation. In order to receive capital from the SBLF, institutions were required to enter into a Securities Purchase Agreement with Treasury. Under Section 3.1(c)(ii)(D) of the Securities Purchase Agreement, institutions participating in the SBLF are required to complete an annual survey providing a description of, among other things, how the institutions have utilized the SBLF funds and how the funds have impacted the operations and status of the institutions. As such, Treasury is seeking responses from institutions participating in the SBLF regarding the institutions' small business lending policies and practices, use of SBLF funding, and efforts to engage in outreach activities with respect to small business lending.

Affected Public: Businesses and other for-profit institutions, and non-profit institutions.

Estimated Total Burden Hours: 2,224.

Robert Dahl,
Treasury PRA Clearance Officer.

[FR Doc. 2014-28963 Filed 12-9-14; 8:45 am]

BILLING CODE 4810-25-P